GENERAL SERVICES ADMINISTRATION

41 CFR Part 300-80

[FTR Amendment 2007-04; FTR Case 2007-303; Docket 2007-0002, Sequence 3]

RIN 3090-AI36

Federal Travel Regulation; FTR Case 2007-303, Relocation Expenses Test Programs

AGENCY: Office of Governmentwide Policy, General Services Administration (GSA).

ACTION: Final rule.

SUMMARY: The Travel and Transportation Reform Act of 1998 (Pub. L. 105-264, October 19, 1998), authorized Federal agencies to conduct travel and relocation expenses test programs when determined by the Administrator of General Services to be in the interest of the Government. The provisions of the Act were implemented by a Federal Travel Regulation (FTR) amendment, and published in the Federal Register at 64 FR 28880, May 27, 1999. They permit agencies to test new and innovative methods of reimbursing travel and relocation expenses without seeking a waiver of current rules or authorizing legislation. However, the test authority for the travel and relocation programs expired in October 2005.

Pub. L. 109-325, October 11, 2006, amends 5 U.S.C. 5739 by extending the authority for the General Services Administration (GSA) to approve relocation expenses test programs for an additional four years. In addition, the law removes the 24-month period in which an agency had to complete an approved relocation expense test program. The amendments provided by Pub. L. No. 109-325 are effective as though enacted as part of the Travel and Transportation Reform Act of 1998.

This final rule incorporates Pub. L. 109-325 by removing the required period of time to complete a relocation test program and extends the authority to conduct relocation tests for an additional four years. The authority to conduct a travel test expense program was not renewed; accordingly, this final rule also deletes those provisions. The FTR and any corresponding documents may be accessed at GSA's website at http://www.gsa.gov/ftr.

DATES: Effective Date: September 7, 2007.

FOR FURTHER INFORMATION CONTACT: For clarification of content, contact Jim Harte, Program Analyst, Travel and Transportation Management Policy Division (MTT), telephone (202) 501-0483, email james.harte@gsa.gov. For information pertaining to status or publication schedules, contact the Regulatory Secretariat (VIR), Room 4035, GS Building, Washington, DC 20405, (202) 501-4755. Please cite FTR Amendment 2007-04; FTR case 2007-303.

SUPPLEMENTARY INFORMATION:

A. Background

On October 19, 1998, the President signed into law the Travel and Transportation Reform Act of 1998 (the Act) (Pub. L. 105-264). In applicable part, the Act authorized travel and relocation expenses test programs designed to enhance cost savings or other efficiencies that may accrue to the Government. The provisions of the Act were implemented by Federal Travel Regulation (FTR) Amendment Number 83, dated May 7, 1999, and published in the Federal Register on May 27, 1999 (64 FR 28880). The provisions of the Act terminated October 2005. Public Law (Pub. L.) 109-325, October 11, 2006, extends the provisions relating to relocation test programs for an additional four years. This final rule implements the provisions of Pub. L. 109-325 by authorizing the continuance of the relocation expense test programs.

This final rule also requires agencies having an approved test program to submit annual reports on the progress of the test to the General Services Administration, Office of Governmentwide Policy, Office of Travel, Transportation and Asset Management. Failure to submit a report may cause termination of the test program approval. In addition, this final rule removes the provisions of the FTR relating to travel test programs as there is no longer any statutory authority for conducting such tests.

B. Executive Order 12866

This regulation is excepted from the definition of “regulation” or “rule” under Section 3(d)(3) of Executive Order 12866, Regulatory Planning and Review, dated September 30, 1993, and therefore was not subject to review under Section 6(b) of that executive order.

C. Regulatory Flexibility Act

This final rule is not required to be published in the Federal Register for notice and comment as per the exemption specified in 5 U.S.C. 553(a)(2); therefore, the Regulatory Flexibility Act, 5 U.S.C. 601, et seq., does not apply.

D. Paperwork Reduction Act

The Paperwork Reduction Act does not apply because the final rule does not impose recordkeeping or information collection requirements, or the collection of information from offerors, contractors, or members of the public which require the approval of the Office of Management and Budget under 44 U.S.C. 3501 et seq.

E. Small Business Regulatory Reform Act

This final rule is also exempt from congressional review prescribed under 5 U.S.C. 801 since it relates solely to agency management and personnel.

List of Subjects in 41 CFR Part 300-80

Government employees, Travel and transportation expenses.

Dated: June 5, 2007.
Lurita Doan,
Administrator of General Services.

For the reasons set forth in the preamble, 41 CFR part 300-80 is amended as follows:

PART 300-80—RELOCATION EXPENSES TEST PROGRAMS

1. The authority for 41 CFR part 300-80 is revised to read as follows:

Authority: 5 U.S.C. 5707, 5738, and 5739.

2. The part heading for 41 CFR part 300-80 is revised to read as set forth above.

§ 300-80.1 [Amended]

3. Amend § 300-80.1 by removing the words “travel and” in both the section heading and text.

§ 300-80.2 [Amended]

4. Amend § 300-80.2 by removing the word “such” in both the section heading and text.

§ 300-80.3 [Amended]

5. Amend § 300-80.3, paragraph (b) by removing “(travel and/or relocation)”.

§ 300-80.4 [Amended]

6. Amend § 300-80.4 by removing the words “10 travel expense test programs and”.

§ 300-80.5 [Amended]

7. Amend § 300-80.5 by removing the words “travel or” in the section heading.

§ 300-80.6 [Removed]

8. Remove § 300-80.6.

§ 300-80.7 [Redesignated as § 300-80.6]

9. Redesignate § 300-80.7 as § 300-80.6.

10. Revise newly redesignated § 300-80.6 to read as follows:

§ 300-80.6 What limits are there to test programs?

None. When authorized by the Administrator of General Services, the agency may pay any necessary relocation expenses in lieu of payments authorized or required under Chapter 302 of this title.

§ 300-80.8 [Redesignated as § 300-80.7]

11. Redesignate § 300-80.8 as § 300-80.7.

12. Revise newly redesignated § 300-80.7 to read as follows:

§ 300-80.7 What is the maximum duration of test programs?

The duration of a test program is 24 months from the date of authorization unless terminated prior to that date by the Administrator of General Services due to changes in law or regulation. Extensions of the 24 month period may be granted by the Administrator of General Services for up to an additional 24 months, but not beyond October 2009, the expiration of the test authority. A request to extend the test program shall be submitted to the Administrator of General Services not later than 45 days prior to the expiration of the original test period.

§ 300-80.9 [Redesignated as § 300-80.8]

13. Redesignate § 300-80.9 as § 300-80.8.

14. Amend newly redesignated § 300-80.8 by revising paragraph (b) to read as follows:

§ 300-80.8 What reports are required for a test program?

* * * * *

(b) The agency authorized to conduct the test program must submit the following reports:

(1) An annual report on the progress of the test, submitted to the General Services Administration, Office of Governmentwide Policy, Office of Travel, Transportation and Asset Management (Attention MTT), Washington, DC 20405. The Administrator or designee may terminate the test program approval for failure to comply with these reporting requirements; and

(2) A final report on the results of the test program must be submitted to the General Services Administration, Office of Governmentwide Policy, Office of Travel, Transportation and Asset Management (Attention MTT), Washington, DC 20405, and to the appropriate committees of Congress within 3 months after completion of the program.

§ 300-80.10 [Redesignated as § 300-80.9]

15. Redesignate § 300-80.10 as § 300-80.9.

§ 300-80.9 [Amended]

16. Amend newly redesignated § 300-80.9 by removing “2005” and adding “2009” in its place.

[FR Doc. E7-17654 Filed 9-6-07; 8:45 am]

BILLING CODE 6820-14-S